DEPARTMENT OF AGRICULTURE

Natural Resources Conservation Service

Marysville Irrigation Company Gravity Pressurized Irrigation Delivery System; Fremont County, ID

AGENCY: Natural Resources Conservation Service, USDA.

ACTION: Notice of a Finding of No Significant Impact.

SUMMARY: Pursuant to Section 102(2)(C) of the National Environmental Policy Act of 1969; the Council on Environmental Quality Guidelines (40 CFR Part 1500); and the Natural Resources Conservation Service Guidelines (7 CFR Part 650); the Natural Resources Conservation Service, U.S. Department of Agriculture, gives notice that an environmental impact statement is not being prepared for the Marysville Irrigation Company, Gravity Pressurized, Irrigation Delivery System, Fremont County, Idaho.

FOR FURTHER INFORMATION CONTACT: Richard Sims, State Conservationist, Natural Resources Conservation Service, 9173 W. Barnes Dr., Suite C, Boise, Idaho 83709-1574, telephone (208) 378-5700.

SUPPLEMENTARY INFORMATION: The Plan/Environmental Assessment of this federally assisted action indicates that the project will not cause significant local, regional, or national adverse impacts affecting the quality of the human environment. As a result of these findings, Richard Sims, State Conservationist, has determined that the preparation and review of an environmental impact statement are not needed for this project.

The Proposed Action consists of replacing an open ditch irrigation delivery system with buried plastic pipelines to distribute gravity pressurized irrigation water. The Proposed Action includes the construction and operation and maintenance of three plastic pipelines that provide for the delivery of gravity pressurized irrigation water to approximately 6,130 acres surrounding Marysville, Idaho, eliminating most of the need for pumping by electric motors. Approximately 1,000 acres would require booster pumps. Water would only be drawn from the pipe when irrigation is required, eliminating overflow to the Henry's Fork River. The Proposed Action would eliminate about 90% of the water seepage loss from the canals and the need for approximately 1,600 horsepower from electric pump motors while not adversely affecting the environment.

The Notice of Finding of No Significant Impact (FONSI) has been forwarded to the Environmental Protection Agency. The basic data developed during the plan/environmental assessment is on file and may be reviewed by contacting Mr. Richard Sims. The FONSI has been sent to various Federal, State, and local agencies, and interested parties. A limited number of copies of the FONSI are available to fill single copy requests at the address stated above.

No administrative action on the proposal will be initiated until 30 days after the date of this publication in the Federal Register.

Dated: April 3, 2007.
Richard Sims,
State Conservationist.

[FR Doc. E7-6740 Filed 4-9-07; 8:45 am]

BILLING CODE 3410-16-P